NATIONAL FOUNDATION FOR THE ARTS AND THE HUMANITIES

Submission for OMB Review, Comment Request, Proposed Collection: State Library Administrative Agencies Survey, FY 2011-2013

AGENCY: Institute of Museum and Library Services, The National Foundation for the Arts and the Humanities.

ACTION: Submission for OMB Review, Comment Request.

SUMMARY: The Institute of Museum and Library Services announces the following information collection has been submitted to the Office of Management and Budget (OMB) for review and approval in accordance with the Paperwork Reduction Act (44 U.S.C. Chapter 35). This program helps to ensure that requested data can be provided in the desired format, reporting burden (time and financial resources) is minimized, collection instruments are clearly understood, and the impact of collection requirements on respondents can be properly assessed.

A copy of the proposed information collection request can be obtained by contacting the individual listed below in the ADDRESSES section of this notice.

DATES: Written comments must be submitted to the office listed in the Contact section below on or before September 25, 2010.

OMB is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including through the use of appropriate automated electronic, mechanical, or other technological collection techniques or other forms of information technology, e.g. permitting electronic submissions of responses.

ADDRESSES: Kim A. Miller, Management Analyst, Office of Policy, Planning, Research, and Communication, Institute of Museum and Library Services, 1800 M Street, NW., 9th Floor, Washington, DC 20036. Telephone: 202-653-4762; Fax: 202-653-4600; e-mail: kmiller@imls.gov; or by teletype (TTY/TDD) for persons with hearing difficulty at 202/653-4614.

SUPPLEMENTARY INFORMATION: The Institute of Museum and Library Services (IMLS) is an independent Federal grant-making agency and is the primary source of federal support for the Nation's 123,000 libraries and 17,500 museums. IMLS provides a variety of grant programs to assist the Nation's museums and libraries in improving their operations and enhancing their services to the public. IMLS is responsible for identifying national needs for, and trends of, museum and library services funded by IMLS; reporting on the impact and effectiveness of programs conducted with funds made available by IMLS in addressing such needs; and identifying, and disseminating information on, the best practices of such programs. (20 U.S.C. Chapter 72, 20 U.S.C. 9108).

Abstract: The State Library Administrative Agencies Survey has been conducted by the Institute of Museum and Library Services under the clearance number 3137-0072, which expires 9/30/2010. State library administrative agencies (“StLAs”) are the official agencies of each State charged by State law with the extension and development of public library services throughout the State. (20 U.S.C. Chapter 72, 20 U.S.C. 9122.) The purpose of this survey is to provide State and Federal policymakers with information about StLAs, including their governance, allied operations, developmental services to libraries and library systems, support of electronic information networks and resources, number and types of outlets, and direct services to the public.

Current Actions: This notice proposes clearance of the State Library Agencies Survey. The 60-day notice for the State Library Administrative Agencies Survey, FY 2011-2013, was published in the Federal Register on May 11, 2010, (FR vol. 75, No. 90, pgs. 26282-26283). No comments were received.

Agency: Institute of Museum and Library Services.

Title: State Library Administrative Agencies Survey, FY 2011-2013.

OMB Number: 3137-0072.

Agency Number: 3137.

Affected Public: Federal, State and Local Governments, State Library Administrative Agencies, Libraries, general public.

Number of Respondents: 51.

Frequency: Annually.

Burden hours per respondent: 26.

Total burden hours: 1326.

Total Annual Costs: $34,874.

Contact: Comments should be sent to Office of Information and Regulatory Affairs, Attn.: OMB Desk Officer for Education, Office of Management and Budget, Room 10235, Washington, DC 20503, (202) 395-7316.

Dated: August 24, 2010.
Kim A. Miller,
Management Analyst, Office of Policy, Planning, Research, and Communication.

[FR Doc. 2010-21487 Filed 8-27-10; 8:45 am]

BILLING CODE 7036-01-P